DEPARTMENT OF TRANSPORTATION

Federal Aviation Administration

14 CFR Part 39

[Docket No. FAA-2019-0018; Product Identifier 2018-NM-116-AD]

RIN 2120-AA64

Airworthiness Directives; Airbus SAS Airplanes

AGENCY: Federal Aviation Administration (FAA), DOT.

ACTION: Notice of proposed rulemaking (NPRM).

SUMMARY: We propose to supersede Airworthiness Directive (AD) 2016-07-12, which applies to certain Airbus SAS Model A318, A319, A320, and A321 series airplanes. AD 2016-07-12 requires repetitive inspections for damage and cracking of the aft fixed fairing (AFF) of the pylons, and repair if necessary. Since we issued AD 2016-07-12, we have received reports of cracks on a certain rib of a modified AFF of the pylons. This proposed AD would retain the repetitive inspections required by AD 2016-07-12, and require additional repetitive inspections at the upper spar at a certain rib area and corrective actions if necessary. We are proposing this AD to address the unsafe condition on these products.

DATES: We must receive comments on this proposed AD by April 8, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For the incorporation by reference (IBR) material described in the “Related IBR material under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0018; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2019-0018; Product Identifier 2018-NM-116-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 2016-07-12, Amendment 39-18457 (81 FR 19482, April 5, 2016) (“AD 2016-07-12”), for certain Airbus SAS Model A318, A319, A320, and A321 series airplanes. AD 2016-07-12 requires repetitive inspections for damage and cracking of the AFF of the pylons, and repair if necessary. AD 2016-07-12 resulted from reports of cracking of the AFF of the pylons due to fatigue damage of the structure. We issued AD 2016-07-12 to address such damage and cracking of the AFF of the pylons, which could result in detachment of a pylon and consequent reduced structural integrity of the airplane.

Actions Since AD 2016-07-12 Was Issued

The European Aviation Safety Agency (EASA), which is the Technical Agent for the Member States of the European Union, has issued EASA AD 2018-0137, dated June 28, 2018 (“EASA AD 2018-0137”) (also referred to as the Mandatory Continuing Airworthiness Information, or “the MCAI”), to correct an unsafe condition for certain Airbus SAS Model A318-111, -112; Model A319-111, -112, -113, -114, -115; Model A320-211, -212, -214, -216; and Model A321-111, -112, -211, -212, -213 airplanes. The MCAI states:

On aeroplanes equipped with post-mod 33844 CFM pylons, several operators reported finding cracks on the Aft Fixed Fairing (AFF). After material analysis, it appeared that the pylon AFF structure, especially on this configuration, was subject to fatigue-induced damage which could lead to pylon AFF cracks.

This condition, if not detected and corrected, could lead to detachment of a pylon AFF from the aeroplane, possibly resulting in injury to persons on the ground.

To address this unsafe condition, Airbus published Alert Operators Transmission (AOT) A54N002-12, providing inspection instructions. Thereafter, Airbus issued Service Bulletin (SB) A320-54-1027, later revised, superseding AOT A54N002-12. EASA issued AD 2014-0154 [which corresponds to FAA AD 2016-07-12] to require repetitive inspections of the pylon AFF and, depending on findings, replacement.

Since that [EASA] AD was issued, Airbus developed mod 156593 to increase the fatigue life of the pylon AFF structure by using a different material and introducing thermal treatment of the aluminium sheets parts. Prompted by new findings of cracks on rib 15, it was determined that this area also needs to be inspected to ensure the structural integrity of the new pylon AFF. Airbus further revised SB A320-54-1027, including instructions for repetitive inspection of that area. Repetitive inspections are also required on post-mod 156593 aeroplanes.

Airbus also developed mod 159806 and 156765, redesigning the corner fittings at the junction upper spar and rib 15, which constitutes terminating action for the repetitive inspections. For retrofit purposes, Airbus issued SB A320-54-1035 and SB A320-54-1036, later revised, providing instructions to modify and re-identify the pylon AFF, which constitutes terminating action for the repetitive inspections.

For the reasons described above, this [EASA] AD retains the requirements of EASA AD 2014-0154, which is superseded, and requires repetitive inspections of the upper spar at rib 15 area and, depending on findings, accomplishment of applicable corrective action(s). This [EASA] AD also includes references to optional terminating actions, and provides installation requirements for the new pylon AFF.

Model A320-216 Airplanes

The Airbus SAS Model A320-216 was U.S. type certificated on December 19, 2016. Before that date, any EASA ADs that affected Model A320-216 airplanes were included on the Required Airworthiness Actions List (RAAL). One or more Model A320-216 airplanes have subsequently been placed on the U.S. Register, and will now be included in FAA AD actions. For Model A320-216 airplanes, the requirements that correspond to AD 2016-07-12 were mandated by the MCAI via the RAAL. Although that RAAL requirement is still in effect, for continuity and clarity we have identified Model A320-216 airplanes in paragraph (c) of this AD; the MCAI that is specified in paragraph (g) in this proposed AD includes restated requirements, which would therefore apply to those airplanes.

Explanation of Retained Requirements

Although this proposed AD does not explicitly restate the requirements of AD 2016-07-12, this proposed AD would retain all of the requirements of AD 2016-07-12. Those requirements are referenced in EASA AD 2018-0137, dated June 28, 2018, which, in turn, is referenced in paragraph (g) of this proposed AD.

Related IBR Material Under 1 CFR Part 51

EASA AD 2018-0137, dated June 28, 2018, describes procedures for repetitive inspections for pre- and post-Airbus SAS modification 156593 airplanes, corrective actions, and optional terminating actions for the repetitive inspections. Corrective actions include modifications and repair. This material is reasonably available because the interested parties have access to it through their normal course of business or by the means identified in the ADDRESSES section and it is publicly available through the EASA website.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Explanation of Required Compliance Information

In the FAA's ongoing efforts to improve the efficiency of the AD process, the FAA worked with Airbus and EASA to develop a process to use certain EASA ADs as the primary source of information for compliance with requirements for corresponding FAA ADs. As a result, EASA AD 2018-0137 will be incorporated by reference in the FAA final rule. This proposed AD would therefore require compliance with the provisions specified in EASA AD 2018-0137, except for any differences identified as exceptions in the regulatory text of this proposed AD. Service information specified in EASA AD 2018-0137 that is required for compliance with EASA AD 2018-0137 will be available at http://www.regulations.gov under Docket No. FAA-2019-0018 after the FAA final rule is published.

Differences Between This Proposed AD and the Service Information/MCAI

Although paragraph (3) of EASA AD 2018-0137 and Airbus Service Bulletin A320-54-1027, Revision 04, dated June 4, 2018, specify accomplishing the initial detailed and special detailed inspections of the AFF of the pylons on aircraft, or the detailed inspection of the AFF of the pylons on bench before exceeding 10,000 flight cycles or 15,000 flight hours since airplane first flight, whichever occurs first, this proposed AD would require operators to accomplish these inspections before exceeding 10,000 flight cycles or 15,000 flight hours since embodiment of Airbus modification 156593, whichever occurs first. This difference has been coordinated with EASA.

Where paragraph (5) of EASA AD 2018-0137 provides credit for actions accomplished in accordance with Airbus Service Bulletin A320-54-1027, Revision 02, dated January 12, 2017; or Airbus Service Bulletin A320-54-1027, Revision 03, dated September 22, 2017; this proposed AD would not provide credit for actions accomplished in accordance with the above referenced service information because of the additional work required by Airbus Service Bulletin A320-54-1027, Revision 04, dated June 4, 2018.

Costs of Compliance

We estimate that this proposed AD affects 205 airplanes of U.S. registry. We estimate the following costs to comply with this proposed AD:

Estimated Costs for Required Actions
Action | Labor cost | Parts cost | Cost per product | Cost on U.S. operators
Retained actions from AD 2016-07-12 | 4 work-hours × $85 per hour = $340 | $0 | $340 | $69,700.
New proposed actions | Up to 21 work-hours × $85 per hour = $1,785 | 0 | Up to $1,785 | Up to $365,925.

Estimated Costs for Optional Actions
Labor cost | Parts cost | Cost per product
Up to 70 work-hours × $85 per hour = $5,950 | Up to $32,800 | Up to $38,750.

We have received no definitive data that would enable us to provide cost estimates for the on-condition actions specified in this proposed AD.

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-07-12, Amendment 39-18457 (81 FR 19482, April 5, 2016), and adding the following new AD:

Airbus SAS: Docket No. FAA-2019-0018; Product Identifier 2018-NM-116-AD.

(a) Comments Due Date

We must receive comments by April 8, 2019.

(b) Affected ADs

This AD replaces AD 2016-07-12, Amendment 39-18457 (81 FR 19482, April 5, 2016) (“AD 2016-07-12”).

(c) Applicability

This AD applies to Airbus SAS Model A318-111, -112; Model A319-111, -112, -113, -114, -115; Model A320-211, -212, -214, -216; and Model A321-111, -112, -211, -212, -213 airplanes, certificated in any category, as identified in the European Aviation Safety Agency (EASA) AD 2018-0137, dated June 28, 2018 (“EASA AD 2018-0137”).

(d) Subject

Air Transport Association (ATA) of America Code 54, Nacelles/pylons.

(e) Reason

This AD was prompted by reports of cracking of the aft fixed fairing (AFF) of the pylons due to fatigue damage of the structure and reports of cracks on a certain rib of a modified AFF of the pylons. We are issuing this AD to address damage and cracking of the AFF of the pylons, which could result in detachment of a pylon and consequent reduced structural integrity of the airplane.

(f) Compliance

Comply with this AD within the compliance times specified, unless already done.

(g) Requirements

Except as specified in paragraph (h) of this AD: Comply with all required actions and compliance times specified in, and in accordance with, EASA AD 2018-0137.

(h) Exceptions to EASA AD 2018-0137

(1) For purposes of determining compliance with the requirements of this AD, use the following paragraphs.

(i) Where EASA AD 2018-0137 refers to its effective date, this AD requires using the effective date of this AD.

(ii) Where EASA AD 2018-0137 refers to a compliance time of after July 16, 2014, this AD requires using May 10, 2016, (the effective date of AD 2016-07-12).

(2) The “Remarks” section of EASA AD 2018-0137 does not apply.

(3) Where paragraph (3) of EASA AD 2018-0137 requires that airplanes that have embodied Airbus modification 156593 accomplish the initial inspection of the AFF of the pylons before exceeding 10,000 flight cycles or 15,000 flight hours, whichever occurs first since airplane first flight, this AD requires inspection of those airplanes before exceeding 10,000 flight cycles or 15,000 flight hours since embodiment of Airbus modification 156593, whichever occurs first.

(4) The provisions of paragraph (5) of EASA AD 2018-0137 are not allowed in this AD.

(5) Where paragraph (6) of EASA AD 2018-0137 gives credit for “the initial requirements of paragraph (4)” of EASA AD 2018-0137, this AD gives credit for “the requirements of paragraph (4)” of EASA AD 2018-0137.

(6) Where EASA AD 2018-0137 requires any approval from EASA or Airbus's Design Organization Approval (DOA), this AD requires approval by the Manager, International Section, Transport Standards Branch, FAA; or EASA; or Airbus SAS's EASA DOA. If approved by the DOA, the approval must include the DOA-authorized signature.

(i) No Reporting Requirement

Although the service information referenced in EASA AD 2018-0137 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2016-07-12 are approved as AMOCs for this AD.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0137 that contains RC procedures and tests: RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2018-0137, contact EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0137 may be found in the AD docket on the internet at http://www.regulations.gov by searching for and locating Docket No. FAA-2019-0018.

(2) For more information about this AD, contact Sanjay Ralhan, Aerospace Engineer, International Section, Transport Standards Branch, FAA, 2200 South 216th St., Des Moines, WA 98198; telephone and fax 206-231-3223.

Issued in Des Moines, Washington, on February 1, 2019.
Michael Kaszycki,
Acting Director, System Oversight Division, Aircraft Certification Service.

[FR Doc. 2019-02926 Filed 2-21-19; 8:45 am]

BILLING CODE 4910-13-P